SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

I. The information collections listed below will be submitted to OMB within 60 days from the date of this notice. Therefore, comments and recommendations regarding the information collections would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. Employment Relationship Questionnaire—0960-0040. The SSA uses the information collected on Form SSA-7160 to determine whether the numberholder is self-employed or an employee. The respondents are applicants for Social Security Benefits and/or employers.

Number of Respondents: 47,500.

Frequency of Response: 1.

Average Burden Per Response: 25 minutes.

Estimated Annual Burden: 19,792 hours.

2. Benefits Planning, Assistance and Outreach (BPAO) Projects—0960-NEW. On May 31, 2000, SSA announced its intention to competitively award cooperative agreements to establish community-based BPAO projects. The overall goal of the projects is to disseminate accurate information to beneficiaries with disabilities (including transition-to-work aged youth) about work incentives programs and issues related to such programs, to enable them to make informed choices about work.

The BPAO project managers will collect data from Social Security Disability Insurance (SSDI) and Supplemental Security Income (SSI) beneficiaries who request BPAO services. The BPAO project managers and SSA will use the data to manage the projects and to determine what additional resources or other approaches may be needed to improve the process. The data is needed to determine the efficacy of the program and to ensure that those dollars appropriated for BPAO services are actually being used for SSA beneficiaries. The data will also be valuable to SSA in its analysis of and future planning for the SSDI and SSI programs.

BPAO projects will collect data on:

• Beneficiary background;

• Beneficiary employment;

• Beneficiary training;

• Beneficiary benefits;

• Beneficiary work incentives;

• Services to which BPAO projects refer beneficiaries; and

• BPAO activities performed.

Number of Respondents: 500,000.

Frequency of Response: 1.

Average Burden Per Response: 30 minutes.

Estimated Annual Burden: 250,000 hours.

II. The information collections listed below have been submitted to OMB for clearance. Written comments and recommendations on the information collections would be most useful if received within 30 days from the date of this publication. Comments should be directed to the SSA Reports Clearance Officer and the OMB Desk Officer at the addresses listed at the end of this publication. You can obtain a copy of the OMB clearance packages by calling the SSA Reports Clearance Officer on (410) 965-4145, or by writing to him.

1. Application for Special Age 72-or-Over Monthly Payments—0960-0096. SSA collects the information on form SSA-19-F6 to determine whether an individual is entitled to Special Age-72 payments. The respondents are individuals who attained age 72 before 1972.

Number of Respondents: 10.

Frequency of Response: 1.

Average Burden Per Response: 20 minutes.

Estimated Annual Burden: 3 hours.

2. Request for Self-Employment Information, Request for Employee Information, Request for Employer Information-0960-0508. SSA uses the information collected on Forms SSA-L2765, SSA-L3365 and SSA-L4002 to credit the reported earnings to the proper earnings record. When W-2 wage data for an individual cannot be identified, the data is placed in the earnings suspense file, and SSA sends decentralized correspondence (DECOR) to the employee (in certain instances to the employer) in an attempt to obtain his/her correct name and Social Security Number. The respondents are employees, employers or self-employed individuals who are asked to furnish additional information for individuals for whom earnings were reported.

Number of Respondents: 3,000,000.

Frequency of Response: 1.

Average Burden Per Response: 10 minutes.

Estimated Annual Burden: 500,000 hours.

3. State Agency Report of Obligations for SSA Disability Programs—0960-0421. The data collected on Form SSA-4513 is necessary for detailed analysis and evaluation of costs incurred by Disability Determination Services (DDS) in making disability determinations for SSA. The data collected also helps to determine funding levels for each DDS. The respondents are DDSs, which are the State agencies that have the responsibility for making disability determinations for SSA.

Number of Respondents: 54.

Frequency of Response: 4.

Average Burden Per Response: 60 minutes.

Estimated Annual Burden: 216 hours.

4. Statement For Determining Continuing Eligibility for Supplemental Security Income Payments—0960-0416. SSA uses form SSA-8203-BK for high-error-profile (HEP) redeterminations. The information is normally completed in field offices by personal contact (face-to-face or telephone interview) using the automated Modernized SSI Claim System (MSSICS). The paper form is used only when a systems limitation prevents the interview from being completed on MSSICS. When the paper form is used, a tear-off sheet (Pages 7 and 8 of the form) is given to recipients at the conclusion of a face-to-face interview or is mailed to recipients at the completion of the telephone interview. The tear-off includes information about how, what, when, where, and why SSI recipients report when there is a change in income, resources, or living arrangements. The respondents are recipients of title XVI SSI benefits.

Number of Respondents: 920,000.

Frequency of Response: 1.

Average Burden Per Response: 17 minutes.

Estimated Annual Burden: 260,667 hours.

5. Childhood Disability Evaluation Form—0960-0568. The information collected on form SSA-538 is used by SSA and the State DDSs to record medical and functional findings concerning the severity of impairments of children who are claiming SSI benefits based on disability. The form is used for initial determinations of eligibility, in appeals, and in initial continuing disability reviews. SSA is revising the form in order to make it easier for those who use it to better record their medical and functional findings.

Number of Respondents: 750,000.

Frequency of Response: 1.

Average Burden Per Response: 25 minutes.

Estimated Annual Burden: 312,500 hours.

6. Employment Support Representative Position: Survey of Beneficiaries and Community Organizations—0960-NEW. SSA has created a new position, the Employment Support Representative (ESR), to provide employment support information and counseling to SSA disability beneficiaries and community organizations. The positions are established initially in a pilot program supporting 51 service areas. SSA proposes to test three models, which vary by organizational placement and assigned duties of the ESR. SSA will evaluate the models to determine which model or feature(s) of the model(s) are most effective through information we will collect from individuals and organizations who made contact with, or received services from, ESRs in each of the models during the pilot.

| Individuals | Organizations
Number of Respondents | 1,332 | 894.
Frequency of Response | 1 | 1.
Average Burden Per Response | 10 minutes | 15 minutes.
Estimated Annual Burden | 222 hours | 224 hours.

7. Survey of Low-Income and Disabled Children-0960-NEW. The Survey of Low-Income and Disabled Children (SOLID KIDS) is designed to collect nationally representative data on children and young adults with SSI experience, including current and previous SSI recipients and SSI applicants. To solicit information, SSA will employ two versions of the SOLID KIDS survey. One survey will be directed at children under age 17. The other, a young adult version, is designed for children who are 17 or older at the time of the survey.

The survey is designed to provide SSA with data on SSI recipients in the following areas:

• Disability and health status;

• Health care utilization;

• Health insurance coverage;

• Out-of-pocket health care expenses;

• Education and training;

• Service utilization and cost;

• Employment income assets;

• Child care; and

• Housing and transportation.

This information will allow SSA to answer policy-relevant questions, for example, the impact of welfare reform on SSI children and young adults, cost of caring for children and young adults with disabilities, transition issues for young adults with disabilities, service utilization patterns, health care access, and unmet health care needs.

The data will be used for internal research and policy evaluation, for briefings, in mandated reports to Congress, in published descriptions in the Social Security Bulletin and elsewhere. External researchers will have access to public-use files.

Respondents to the SOLID KIDS survey, children's version, will be parent's or guardian's of the sample children under age 17 at the time of the survey. The young adult version of the SOLID KIDS survey is designed for children who are 17 or older at the time of the survey. For young adults who are still living in their parents' household, the respondent will be the parent or guardian. For young adults who are living away from their parents (for example, in a group home or facility, or in their own home or apartment), the respondent will be the young adults themselves. In cases where the young adult is living outside of the parent's home and is unable to complete the survey due to disability, a proxy respondent will be selected.

Number of respondents: 9,857.

Number of Response: 1.

Average burden per response: 58 minutes.

Estimated Annual Burden: 9,528 hours.

SSA Address—Social Security Administration, DCFAM, Attn: Frederick W. Brickenkamp, 1-A-21 Operations Bldg., 6401 Security Blvd., Baltimore, MD 21235

OMB Address—Office of Management and Budget, OIRA, Attn: Desk Officer for SSA, New Executive Office Building, Room 10230, 725 17th St., NW, Washington, D.C. 20503.

Dated: August 31, 2000.
Frederick W. Brickenkamp,
Reports Clearance Officer, Social Security Administration.

[FR Doc. 00-23016 Filed 9-7-00; 8:45 am]

BILLING CODE 4191-02-P